DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section.

FOR FURTHER INFORMATION CONTACT: OFAC: Associate Director for Global Targeting, tel.: 202-622-2420; Assistant Director for Licensing, tel.: 202-622-2480; Assistant Director for Regulatory Affairs, tel.: 202-622-4855; Assistant Director for Sanctions Compliance & Evaluation, tel.: 202-622-2490; or the Department of the Treasury's Office of the General Counsel: Office of the Chief Counsel (Foreign Assets Control), tel.: 202-622-2410.

SUPPLEMENTARY INFORMATION:

Electronic Availability

The list of Specially Designated Nationals and Blocked Persons (SDN List) and additional information concerning OFAC sanctions programs are available on OFAC's website (http://www.treasury.gov/ofac).

Notice of OFAC Actions

On January 30, 2018, OFAC determined that the property and interests in property subject to U.S. jurisdiction of the following persons are blocked under the relevant sanctions authority listed below.

Individuals

1. WEI, Zhao (a.k.a. CHIO, Wai; a.k.a. HWEI, Jao; a.k.a. SAECHOU, Thanchai; a.k.a. WAI, Chio; a.k.a. WEI, Chao; a.k.a. WEI, Jiao; a.k.a. WEI, Zhang), Flat G, 19 FL Maple Mansion, Taikoo Shing, Quarry Bay, Hong Kong; Room 2410, 24/F, Block Q, Kornhill, Quarry Bay, Hong Kong; DOB 16 Sep 1952; POB Heilongjiang Province, China; alt. POB Liaoning Province, China; nationality China; Gender Male; Passport MA0269785 (Macau); alt. Passport M0178952 (China); alt. Passport MA0162634 (China); National ID No. 12756003 (Macau) (individual) [TCO] (Linked To: ZHAO WEI TCO). Designated pursuant to section 1(a)(ii)(B) of Executive Order 13581 of July 24, 2011, “Blocking Property of Transnational Criminal Organizations” (E.O. 13581), for having materially assisted, sponsored, or provided financial, material, or technological support for, or goods or services to or in support of, the ZHAO WEI TCO. Also designated pursuant to section 1(a)(ii)(C) of E.O. 13581 for having acted or purported to act for or on behalf of, directly or indirectly, the ZHAO WEI TCO.

2. SU, Guiqin (a.k.a. SU, Gui Qin; a.k.a. SU, Madame; a.k.a. SU, Zhao; a.k.a. WEI, Su), Flat G, 19 FL Maple Mansion, Taikoo Shing, Quarry Bay, Hong Kong; DOB 03 Dec 1959; POB Liaoning Province, China; nationality China; Gender Female; Passport G55408772 (China); alt. Passport G42695702 (China); alt. Passport E03807847 (China); National ID No. R9733840 (China) (individual) [TCO] (Linked To: ZHAO WEI TCO). Designated pursuant to section 1(a)(ii)(B) of E.O. 13581 for having materially assisted, sponsored, or provided financial, material, or technological support for, or goods or services to or in support of, the ZHAO WEI TCO. Also designated pursuant to section 1(a)(ii)(C) of E.O. 13581 for having acted or purported to act for or on behalf of, directly or indirectly, the ZHAO WEI TCO.

3. EBERAHIM, Abbas (a.k.a. BASU), 43 Walana Cres, Kooringal, NSW 2650, Australia; Golden Triangle Special Economic Zone, Bokeo, Laos; 292 Moo 1 Wiang, Chiang Saen District, Chiang Rai 57150, Thailand; DOB 11 Sep 1949; POB Malaysia; nationality Australia; Gender Male; Passport N2315963 (Australia) (individual) [TCO] (Linked To: ZHAO WEI TCO). Designated pursuant to section 1(a)(ii)(B) of E.O. 13581 for having materially assisted, sponsored, or provided financial, material, or technological support for, or goods or services to or in support of, the ZHAO WEI TCO. Also designated pursuant to section 1(a)(ii)(C) of E.O. 13581 for having acted or purported to act for or on behalf of, directly or indirectly, the ZHAO WEI TCO.

4. RUNGTAWANKHIRI, Nat (a.k.a. RUNGTAWANKEEREE, Nat), 100 (20) Mu. 2, Tambon Mae Salong Nai, Mae Fah Luang District, Chiang Rai, Thailand; DOB 01 Jan 1977; nationality Thailand; Gender Male; National ID No. 5-5715-00025-50-6 (Thailand) (individual) [TCO] (Linked To: ZHAO WEI TCO). Designated pursuant to section 1(a)(ii)(B) of E.O. 13581 for having materially assisted, sponsored, or provided financial, material, or technological support for, or goods or services to or in support of, the ZHAO WEI TCO. Also designated pursuant to section 1(a)(ii)(C) of E.O. 13581 for having acted or purported to act for or on behalf of, directly or indirectly, the ZHAO WEI TCO.

Entities

1. ZHAO WEI TCO (a.k.a. KINGS ROMANS CASINO; a.k.a. KINGS ROMANS GROUP; a.k.a. ZHAO WEI NARCOTICS TRAFFICKING GROUP), Laos; Thailand; Burma; China [TCO]. Designated pursuant to section 1(a)(ii)(A) of E.O. 13581 because it is a foreign person that constitutes a significant transnational criminal organization.

2. KINGS ROMANS INTERNATIONAL (HK) CO., LIMITED (a.k.a. DOK NGEW KHAM CASINO CO. LTD.; a.k.a. DOK NGIEO KHAM COMPANY; a.k.a. DOK NGIU KHAM KING ROMAN CASINO; a.k.a. DOK NGIU KHAM KING ROMAN GROUP; a.k.a. DOKNGIEWKHAM COMPANY; a.k.a. DONG NGIEW KHAM GROUP; a.k.a. GOLDEN KAPOK; a.k.a. JIN MU MIAN; a.k.a. JING MU MIANG COMPANY; a.k.a. KING ROMANS GROUP COMPANY LTD; a.k.a. KINGS ROMAN INTERNATIONAL COMPANY, LIMITED; a.k.a. KINGS ROMAN RESORT AND CASINO; a.k.a. KINGS ROMANS CASINO; a.k.a. KINGS ROMANS GROUP; a.k.a. MYANMAR MACAU LUNDUN; a.k.a. WEI TA LEE COMPANY), Rm 3605, 36/F Wu Chung Hse, 213 Queens Rd E, Wan Chai, Hong Kong Island, Hong Kong; Registration ID 51510606 (Hong Kong); Certificate of Incorporation Number 1396649 (Hong Kong) [TCO] (Linked To: WEI, Zhao; Linked To: SU, Guiqin). Designated pursuant to section 1(a)(ii)(C) of E.O. 13581 for being owned or controlled by, or having acted or purported to act for or on behalf of, directly or indirectly, Zhao WEI and Guiqin SU.

3. KINGS ROMANS INTERNATIONAL INVESTMENT CO. LIMITED (a.k.a. DOK NGEW KHAM CASINO CO. LTD.; a.k.a. DOK NGIEO KHAM COMPANY; a.k.a. DOK NGIU KHAM KING ROMAN CASINO; a.k.a. DOK NGIU KHAM KING ROMAN GROUP; a.k.a. DOKNGIEWKHAM COMPANY; a.k.a. DONG NGIEW KHAM GROUP; a.k.a. GOLDEN KAPOK; a.k.a. JIN MU MIAN; a.k.a. JING MU MIANG COMPANY; a.k.a. KING ROMANS GROUP COMPANY LTD; a.k.a. KINGS ROMAN RESORT AND CASINO; a.k.a. KINGS ROMANS CASINO; a.k.a. KINGS ROMANS GROUP; a.k.a. MYANMAR MACAU LUNDUN; a.k.a. WEI TA LEE COMPANY), Rm C, 15/F, Full Win Coml Ctr, 573 Nathan Rd, Mongkok, Kowloon, Hong Kong; Rm 3605, 36FL, Wu Chung House, 213 Queen's Road East, Wan Chai, Wan Chai, Hong Kong; Registration ID 38620903 (Hong Kong); Certificate of Incorporation Number 1184117 (Hong Kong) [TCO] (Linked To: WEI, Zhao). Designated pursuant to section 1(a)(ii)(C) of E.O. 13581 for being owned or controlled by, or having acted or purported to act for or on behalf of, directly or indirectly, Zhao WEI.

4. KING ROMANS COMPANY LIMITED, 292, Wiang, Chiang Saen, 57150 Chiang Rai, Thailand; 292 Mu. 1, Tambon Wiang, Chiang Saen District, Chiang Rai, Thailand; 422/44 Chang Khlan Road, Tambon Chang Khlang, Mueang District, Chiang Mai, Thailand; Registration ID 0575552000132 (Thailand) [TCO] (Linked To: WEI, Zhao; Linked To: RUNGTAWANKHIRI, Nat). Designated pursuant to section 1(a)(ii)(C) of E.O. 13581 for being owned or controlled by, or having acted or purported to act for or on behalf of, directly or indirectly, Zhao WEI and Nat RUNGTAWANKHIRI.

Dated: January 30, 2018.
John E. Smith,
Director, Office of Foreign Assets Control.

[FR Doc. 2018-02161 Filed 2-2-18; 8:45 am]

BILLING CODE 4810-AL-P